DEPARTMENT OF HEALTH AND HUMAN SERVICES

Administration for Children and Families

Proposed Information Collection Activity; Comment Request

Proposed Projects:

Title: Runaway and Homeless Youth Management Information System (RHYMIS).

OMB No. 0970-0123.

Description: In the Runaway and Homeless Youth Act (42 U.S.C. 5701 et seq.) Congress mandated that the Department of Health and Human Services (HHS) report regularly on the status of HHS-funded programs serving runaway and homeless youth in Basic Center programs (BC), Transitional Living programs (TLP) and Street Outreach programs. Organizations funded under the Runaway and Homeless Youth program are required by statute (42 U.S.C. 5712, 42 U.S.C. 5714-2) to meet several data collection and reporting requirements, including maintaining client statistical records and submitting annual program reports regarding the profile of the youth and families served and the services provided to them. The RHYMIS data supports these organizations as they carry out a variety of integrated, ongoing responsibilities and projects, including legislative reporting requirements, planning and public policy development for runaway and homeless youth programs, accountability monitoring, program management, research, and evaluation. RHYMIS has been redesigned and streamlined to reduce the collection burden upon respondents and to capture key information previously not requested.

Respondents: Not-for-profit institutions.

Annual Burden Estimates
Instrument | Number of respondents | Number of responses per respondent | Average burden hours per response | Total burden hours
BC/TLP Youth Profile | 400 | 185 | .75 | 55,500
Street Outreach Report | 140 | 2 | .40 | 112
BC/TLP Brief Contacts | 400 | 100 | .10 | 4,000
BC/TLP Turnaways | 400 | 50 | .10 | 2,000
Date Transfer | 400 | 2 | .50 | 400
Estimated Total Annual Burden Hours |  |  |  | 62,012

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 21, 2000.
Bob Sargis,
Reports Clearance Officer.

[FR Doc. 00-33038 Filed 12-27-00; 8:45 am]

BILLING CODE 4184-01-M